FEDERAL COMMUNICATIONS COMMISSION

Notice of Public Information Collection(s) Being Reviewed by the Federal Communications Commission, Comments Requested

January 17, 2003.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before March 31, 2003. If you anticipate that you will be submitting comments, but find it difficult to do so within the period of time allowed by this notice, you should advise the contact listed below as soon as possible.

ADDRESSES: Direct all comments to Judith Boley Herman, Federal Communications Commission, Room 1-C804 or Room 1-A804, 445 12th Street, SW., Washington, DC 20554 or via the Internet to jboley@fcc.gov.

FOR FURTHER INFORMATION CONTACT: For additional information or copies of the information collection(s), contact Judith Boley Herman at 202-418-0214 or via the Internet at jboley@fcc.gov.

SUPPLEMENTARY INFORMATION: OMB Control No.: 3060-1031.

Title: Revision of the Commission's Rules to Ensure Compatibility with Enhanced 911 Emergency Calling Systems: Petition of City of Richardson, TX; Order on Reconsideration.

Form No.: N/A.

Type of Review: Extension of a currently approved collection.

Respondents: Business or other for-profit, not-for-profit institutions, and state, local or tribal government.

Number of Respondents: 1,358.

Estimated Time Per Response: 2-40 hours.

Frequency of Response: On occasion reporting requirement, third party disclosure requirement.

Total Annual Burden: 13,960 hours.

Total Annual Cost: N/A.

Needs and Uses: The Order on Reconsideration responds to two petitions for reconsideration of a previous Order which responded to a petition from the city of Richardson, TX. The current Order on Reconsideration contains three new information collection requirements. First, it allows wireless carriers to toll the six-month E911 implementation period if the carrier certifies that the requesting Public Safety Answering Point (PSAP) is not E911 capable. Second, PSAPs may file a response to the carrier's certification. Third, the Order on Reconsideration clarifies that wireless carriers and PSAPs may mutually agree on an E911 implementation date other than that prescribed in the Commission's rules.

The Commission sought and obtained emergency OMB approval for this information collection on 1/16/03. The Commission is now seeking extension of this collection to obtain the full three year OMB approval.

Federal Communications Commission.
Marlene H. Dortch,
Secretary.

[FR Doc. 03-1848 Filed 1-27-03; 8:45 am]

BILLING CODE 6712-01-P